DEPARTMENT OF DEFENSE

Office of the Secretary

[Transmittal No. 23-0T]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0T.

Dated: January 2, 2025.
Aaron T. Siegel,
Alternate OSD Federal Register Liaison Officer, Department of Defense.

BILLING CODE 6001-FR-P

BILLING CODE 6001-FR-C

Transmittal No. 23-0T

REPORT OF ENHANCEMENT OR UPGRADE OF SENSITIVITY OF TECHNOLOGY OR CAPABILITY (SEC. 36(B)(5)(C), AECA)

(i) Purchaser: Government of the United Arab Emirates

(ii) Sec. 36(b)(1), AECA Transmittal No.: 08-19

Date: September 8, 2008

Implementing Agency: Missile Defense Agency

Funding Source: National Funds

(iii) Description: On September 8, 2008, Congress was notified by Congressional certification transmittal number 08-19 of the possible sale, under Section 36(b)(1) of the Arms Export Control Act, to the United Arab Emirates of 3 Terminal High Altitude Air Defense (THAAD) Fire Units with 147 THAAD missiles, 4 THAAD radar sets (3 tactical and one maintenance float), 6 THAAD fire and control communication stations, and 9 THAAD launchers. Also included are fire unit maintenance equipment, prime movers (trucks), generators, electrical power units, trailers, communications equipment, tools, test and maintenance equipment, repair and return, system integration and checkout, spare/repair parts, publications, documentation, personnel services, and other related support elements. The estimated total cost was $6.95 billion. Major Defense Equipment (MDE) constituted $4.20 billion of this total.

On August 7, 2012, Congress was notified by Congressional certification transmittal number 0D-12 of the upgrade of the 3 THAAD Fire Units previously notified but not yet delivered, with the addition of 7 Multifunctional Information Distribution System Low Volume Terminals (MIDS-LVTs). The total net cost of MDE increased by $2.8 million to $4.203 billion. The estimated total case value remained $6.95 billion.

This transmittal notifies the possible sale of an additional twelve (12) THAAD launchers. Also included is five (5) years of sustainment support for both the THAAD ground equipment and the THAAD radar sets, consisting of: system software maintenance and upgrade; test components; repair and return; support equipment; spare and repair parts; personnel training and training equipment; publications and technical data; U.S. Government and contractor technical assistance; and other related elements of logistical and program support. The total value of the new items and services is $1.163 billion. The net cost of MDE will increase by $120 million, resulting in a revised MDE value of $4.323 billion. The net cost of non-MDE will increase by $1.043 billion. The total estimated case value will increase by $1.163 billion to $8.113 billion.

(iv) Significance: The proposed sale will improve UAE's capability to counter current and future threats in the region.

(v) Justification: This proposed sale will support the foreign policy and national security of the United States by helping to improve the security of an important regional partner. The UAE is a vital U.S. partner for political stability and economic progress in the Middle East.

(vi) Sensitivity of Technology: The Sensitivity of Technology Statement contained in the original notification applies to items reported here.

The highest level of classification of defense articles, components, and services included in this potential sale is SECRET.

(vii) Date Report Delivered to Congress: February 15, 2024

[FR Doc. 2025-00139 Filed 1-7-25; 8:45 am]

BILLING CODE 6001-FR-P